DEPARTMENT OF THE INTERIOR

Bureau of Land Management

[LLCON05000 L16100000.DT0000]

Notice of Availability of Record of Decision for the White River Field Office Oil and Gas Development Resource Management Plan Amendment, Colorado

AGENCY: Bureau of Land Management, Interior.

ACTION: Notice of availability.

SUMMARY: The Bureau of Land Management (BLM) announces the availability of the Record of Decision (ROD) and Approved Resource Management Plan (RMP) Amendment for Oil and Gas Development in the White River Field Office (WRFO). The planning are is located in Rio Blanco, Moffat, and Garfield Counties, Colorado. The Colorado State Director signed the ROD on August 20, 2015, which constitutes the final decision of the BLM and makes the Approved RMP Amendment effective immediately.

ADDRESSES: Copies of the ROD/Approved RMP Amendment are available upon request from the Field Manager, White River Field Office, Bureau of Land Management, 220 East Market Street, Meeker, CO 81641 or via the Internet at http://www.blm.gov/co/st/en/fo/wrfo.html.

FOR FURTHER INFORMATION CONTACT: Heather Sauls, Planning and Environmental Coordinator; telephone 970-878-3855; White River Field Office, 220 East Market Street, Meeker, CO 81641; email hsauls@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The WRFO has worked with the public, interest groups, stakeholders, cooperating agencies, tribes, the Northwest Colorado Resource Advisory Council, and neighboring BLM offices for the past nine years through the oil and gas amendment development process. The result is an Approved RMP Amendment for oil and gas development that seeks to provide for a level of oil and gas development that is appropriate to the Nation's energy needs in a responsible manner of multiple use that maintains the ecological integrity of the area and important natural, cultural, social and historical values.

Included as part of the RMP Amendment is the Dinosaur Trail Master Leasing Plan (MLP), which will minimize the impacts from oil and gas exploration and development to important natural resources and areas in that portion of the planning area, including the Dinosaur National Monument, Areas of Critical Environmental Concern (ACECs), and Wilderness Study Areas (WSAs), . Impacts will be minimized by managing leasing opportunities in a phased approach and imposing controlled surface use stipulations for visual resources, night skies, and soundscapes.

While the WRFO Approved RMP Amendment for Oil and Gas Development contains some conservation management measures for Greater Sage-Grouse habitat, the Northwest Colorado BLM Greater Sage-Grouse Plan Amendment and Environmental Impact Statement (EIS) fully analyzed applicable Greater Sage-Grouse conservation measures, including measures effecting lands within the WFRO. The BLM expects to make a comprehensive set of decisions for managing Greater Sage-Grouse on lands administered by the WRFO in the Record of Decision for the Northwest Colorado Greater Sage-Grouse Plan Amendment. That decision will amend the 1997 WRFO RMP, as needed, including any of the changes made to the 1997 WRFO as part of this Approved RMP Amendment for Oil and Gas Development. In the interim, leasing in Greater Sage-Grouse habitat will continue to be deferred until a final decision has been made on the Northwest Colorado Greater Sage-Grouse Plan Amendment. The BLM initiated scoping for the RMP Amendment in 2006 and collected information and public input via public meetings in order to develop the Draft RMP Amendment/Environmental Impact Statement (EIS) in August 2012. Based on public and agency comments, the BLM developed the Proposed RMP Amendment by combining various elements of all the alternatives considered in the Draft RMP Amendment/EIS. The BLM published the Proposed RMP Amendment/Final EIS on March 27, 2015 (80 FR 16424), and made it available for a 30-day public protest period. During the protest period for the Proposed RMP Amendment/Final EIS, the BLM received 11 protest letters on a variety of issues. From those protest letters, the BLM granted in part one protest regarding the requirement in BLM's ACEC Manual that the BLM conduct a timely evaluation of ACEC nominations. As explained in the ROD, the BLM will evaluate these nominated areas to determine whether they satisfy the relevance and importance criteria consistent with BLM's planning regulations and provide temporary (interim) management for those areas found to meet the criteria. The BLM included a timeline for conducting these evaluations in the ROD. The BLM also made minor editorial modifications to the Approved RMP Amendment to provide further clarification of some of the decisions.

BLM regulations also require a 60-day Governor's Consistency Review period for the Proposed RMP Amendment/Final EIS to review consistency with approved state or local plans, policies, or programs. The Governor did not identify any inconsistencies with approved state or local plans, policies, or programs.

Management decisions outlined in the Approved RMP Amendment apply only to oil and gas exploration and development activities on BLM-administered lands in the WRFO Planning Area and do not address other resources or resource allocations, or authorize development of those resources. Approximately 1.7 million acres of Federal oil and gas mineral estate is open to leasing and would be subject to lease stipulations and other management actions developed during this planning effort (i.e., BLM-leasable acres not associated with WSAs or surface estate managed by the National Park Service or U.S. Forest Service). Major decisions include adopting the Dinosaur Trail MLP; using thresholds to promote clustered development to allow for year-round drilling while reducing habitat loss due to behavioral avoidance by big game; using a tiered approach to managing lands with wilderness characteristics and identifying specific success criteria for reclamation.

The Approved RMP Amendment does not include implementation decisions that would be appealable to the Interior Board of Land Appeals under 43 CFR part 4, subpart E.

Authority: 40 CFR 1506.6.

Ruth Welch,
BLM Colorado State Director.

[FR Doc. 2015-20882 Filed 8-21-15; 8:45 am]

BILLING CODE 4310-JB-P